DEPARTMENT OF ENERGY

Federal Energy Regulatory Commission

[Docket No. AD21-15-000]

Joint Federal-State Task Force on Electric Transmission; Notice of Meeting and Agenda

As first announced in the Commission's December 14, 2021 Notice in the above-captioned docket,¹ the second public meeting of the Joint Federal-State Task Force on Electric Transmission (Task Force) will be held on Wednesday, February 16, 2022, from approximately 10:00 a.m. to 2:00 p.m. Eastern time. The meeting will be held at the Renaissance Downtown Hotel in Washington, DC. Commissioners may attend and participate in this meeting. Attached to this Notice is an agenda for the meeting.

¹ Joint Fed.-State Task Force on Elec. Transmission, Notice, Docket No. AD21-15-000 (issued Dec. 14, 2021).

Discussions at the meeting may involve issues raised in proceedings that are currently pending before the Commission. These proceedings include, but are not limited to:

PJM Interconnection, L.L.C | Docket No. ER22-902-000.
PJM Interconnection, L.L.C | Docket No. ER22-702-000.
California Independent System Operator Corporation | Docket Nos. ER21-1790-003; ER2-1790-005.
Duke Energy Florida, LLC v. Florida Power & Light Co. and Florida Power & Light Co. d/b/a Gulf Power | Docket No. EL21-93-000.
Neptune Regional Transmission System, LLC and Long Island Power Authority v. PJM Interconnection, L.L.C | Docket No. EL21-39-000.

The meeting will be open to the public for listening and observing and on the record. There is no fee for attendance and registration is not required. The public may attend in person or via audio Webcast.² Pursuant to Mayor's Order 2021-148, beginning on February 15, 2022, indoor event and meeting establishments, including hotel meeting facilities in the District of Columbia “shall not permit a guest, visitor, or customer over twelve (12) years old to enter their indoor premises without displaying proof of vaccination against COVID-19.” ³ Unless exempt, patrons must present photo identification and proof of vaccination upon entry to the Renaissance Downtown Hotel. Additionally, pursuant to Mayor's Order 2022-018, all persons are required to wear masks indoors in the District of Columbia,⁴ including in all areas of the Renaissance Downtown Hotel. This conference will be transcribed. Transcripts will be available for a fee from Ace Reporting, 202-347-3700.

² A link to the webcast will be available here on the day of the event: https://www.ferc.gov/TFSOET.

³ Mayor's Order 2021-148, Vaccination Requirements for Entrance into Certain Indoor Establishments and Facilities (Dec. 22, 2021), https://coronavirus.dc.gov/sites/default/files/dc/sites/coronavirus/page_content/attachments/2021-148%20Vaccination%20Requirement%20for%20Entrance%20into%20Certain%20Indoor%20Establishments%20and%20Facilities.pdf.

⁴ Mayor's Order 2022-018, Extension of Indoor Mask Requirements (Jan. 26, 2022), https://coronavirus.dc.gov/sites/default/files/dc/sites/coronavirus/page_content/attachments/2022-018%20Extension%20of%20Indoor%20Mask%20Requirements.pdf.

Commission conferences are accessible under section 508 of the Rehabilitation Act of 1973. For accessibility accommodations, please send an email to accessibility@ferc.gov or call toll free 1-866-208-3372 (voice) or 202-208-8659 (TTY), or send a fax to 202-208-2106 with the required accommodations.

More information about the Task Force, including frequently asked questions, is available here: https://www.ferc.gov/TFSOET. For more information about this meeting, please contact: Gretchen Kershaw, 202-502-8213, gretchen.kershaw@ferc.gov; or Jennifer Murphy, 202-898-1350, jmurphy@naruc.org. For information related to logistics, please contact Benjamin Williams, 202-502-8506, benjamin.williams@ferc.gov; or Rob Thormeyer, 202-502-8694, robert.thormeyer@ferc.gov.

For more information about this Notice, please contact:

Michael Cackoski (Technical Information), Office of Energy Policy and Innovation, (202) 502-6169, Michael.Cackoski@ferc.gov.

Gretchen Kershaw (Legal Information), Office of the General Counsel, (202) 502-8213, Gretchen.Kershaw@ferc.gov.

Dated: February 2, 2022.
Debbie-Anne A. Reese,
Deputy Secretary.

[FR Doc. 2022-02612 Filed 2-7-22; 8:45 am]

BILLING CODE 6717-01-P